DEPARTMENT OF HEALTH AND HUMAN SERVICES

National Institutes of Health

National Cancer Institute; Amended Notice of Meeting

Notice is hereby given of a change in the meeting of the National Cancer Institute Special Emphasis Panel, August 2, 2007, 1:30 p.m. to August 2, 2007, 3:30 p.m., Marriott Bethesda North Hotel & Conference Center, 5701 Marinelli Road, North Bethesda, MD 20852 which was published in the Federal Register on April 24, 2007, 72 FR 20348.

This meeting notice is amended to reflect the location change to the Embassy Suites Hotel at Chevy Chase Pavilion, 1400 Military Road, NW., Washington, DC 20015 and meeting time to 3 p.m. to 5 p.m. The meeting is closed to the public.

Dated: June 21, 2007.
Jennifer Spaeth,
Director, Office of Federal Advisory Committee Policy.

[FR Doc. 07-3185 Filed 6-27-07; 8:45 am]

BILLING CODE 4140-01-M